DEPARTMENT OF LABOR

Employment and Training Administration

[TA-W-72,924]

Heritage Aviation, Ltd., Including On-Site Leased Workers From Global Technical Services and Global, Inc. (Global Employment Solutions, Inc.); Grand Prairie, TX; Amended Certification Regarding Eligibility to Apply for Worker Adjustment Assistance

In accordance with Section 223 of the Trade Act of 1974, as amended (“Act”), 19 U.S.C. 2273, the Department of Labor issued a Certification of Eligibility to Apply for Worker Adjustment Assistance on December 28, 2009, applicable to workers of Heritage Aviation, including on-site leased workers from Heritage Aviation, Ltd, including on-site leased workers from Global Technical Services, Grand Prairie, Texas. The notice was published in the Federal Register on February 16, 2010 (75 FR 7033).

At the request of the State Agency, the Department reviewed the certification for workers of the subject firm. The workers are engaged in employment related to the production of aircraft detail parts and sub-assemblies.

The company reports that workers leased from Global Inc., were employed on-site at the Grand Prairie, Texas location of Heritage Aviation. On-site leased workers from Global, Inc. had their wages reported under a separate unemployment insurance (UI) tax account for its' formerly known as name, Global Employment Solutions.

The Department has determined that these workers were sufficiently under the control of the subject firm to be considered leased workers.

Based on these findings, the Department is amending this certification to include workers leased from Global Inc. (Global Employee Solutions Inc.) working on-site at the Grand Prairie, Texas location of Heritage Aviation.

The amended notice applicable to TA-W-72,924 is hereby issued as follows:

All workers of Heritage Aviation, including on-site leased workers from Global Technical Services and Global, Inc. (Global Employment Solutions), Grand Prairie, Texas, who became totally or partially separated from employment on or after November 20, 2008, through December 28, 2010, and all workers in the group threatened with total or partial separation from employment on the date of certification through two years from the date of certification, are eligible to apply for adjustment assistance under Chapter 2 of Title II of the Trade Act of 1974, as amended.

Signed at Washington, DC, this 1st day of March 2010.
Michael W. Jaffe,
Certifying Officer, Division of Trade Adjustment Assistance.

[FR Doc. 2010-5313 Filed 3-11-10; 8:45 am]

BILLING CODE 4510-FN-P